DEPARTMENT OF THE INTERIOR

National Park Service

[NPS-WASO-NAGPRA-20115; PPWOCRADN0-PCU00RP14.R50000]

Native American Graves Protection and Repatriation Review Committee; Findings and Recommendations Regarding Human Remains and Associated Funerary Objects for The Osage Nation

AGENCY: National Park Service, Interior.

ACTION: Findings and recommendations.

SUMMARY: The National Park Service is publishing this notice as part of its administrative responsibilities pursuant to the Native American Graves Protection and Repatriation Act (NAGPRA or the Act). The recommendations, findings, and actions in this notice are advisory only and are not binding on any person. The Native American Graves Protection and Repatriation Review Committee (Review Committee) found that certain human remains and associated items are culturally affiliated with The Osage Nation and that the State of Missouri Department of Natural Resources, State Historic Preservation Office should determine the most appropriate claimant—The Osage Nation or the Indian tribes comprising the Sac and Fox NAGPRA Confederacy—using the criteria under section 7(a)(4) of the Act.

ADDRESSES: The Review Committee meeting transcript containing the proceedings and Review Committee deliberation and findings are available online at www.nps.gov/nagpra/Review or from the National NAGPRA Program upon request (NAGPRA_Info@nps.gov).

SUPPLEMENTARY INFORMATION: The recommendations, findings, and actions of the Review Committee are advisory only and not binding on any person. These advisory findings and recommendations do not necessarily represent the views of the National Park Service or Secretary of the Interior. The National Park Service and the Secretary of the Interior have not taken a position on these matters.

The Review Committee was established by Section 8 of the Act, and is an advisory body governed by the Federal Advisory Committee Act. At its November 18, 2015, public meeting in Norman, OK, the Review Committee heard a request from The Osage Nation as an affected party. The issues before the Review Committee were (1) whether the human remains and associated items from the Clarksville Mound Group (site 23PI6) are culturally affiliated with The Osage Nation; and (2) whether the appropriate disposition of the human remains and associated items from the Clarksville Mound Group (site 23PI6) is to The Osage Nation or the Indian tribes comprising the Sac and Fox NAGPRA Confederacy.

Between 1962 and 1996, human remains representing, at minimum, 29 individuals were removed from the Clarksville Mound Group (site 23PI6) in Pike County, MO. The Clarksville Mound Group was originally recorded in 1952, and described as a group of six mounds. In 1962, the site was bulldozed in order to develop a sky-ride and tourist attraction, and five of the six mounds were destroyed. In 1995 and 1996, the City of Clarksville, the owner of the site, contacted the Missouri Department of Natural Resources, State Historic Preservation Office (SHPO) for assistance after terminating the lease to the tourist attraction. Human remains were eroding out of the damaged mound, and due to the severity of the erosion problem, the SHPO and the City of Clarksville decided to undertake excavations to remove the threatened burials. The excavations were expanded as more burials were discovered. During the excavations, human remains representing, at minimum, 22 individuals were removed from the site. The two associated funerary objects are one lot of ancalusa shell beads and one Scallorn point. In 2002, additional human remains representing, at minimum, four individuals were transferred to the SHPO by a local collector who had been on the site in 1962. In 2006, additional human remains from the site representing, at minimum, three individuals were transferred to the SHPO by the University of Missouri-Columbia.

On February 21, 2013, the Sac & Fox Nation of Oklahoma, the Sac & Fox Tribe of the Mississippi in Iowa, and the Sac & Fox Nation of the Missouri in Kansas, through the Sac and Fox NAGPRA Confederacy, submitted a request for repatriation of all the human remains and associated funerary objects from the Clarksville Mound Group (site 23PI6), citing a relationship of shared group identity (cultural affiliation). On July 30, 2013, the SHPO published a Notice of Inventory Completion in the Federal Register (78 FR 45960-45961) for the human remains and associated funerary objects from the Clarksville Mound Group (site 23PI6) in which it determined that a shared group identity could be reasonably traced between the human remains and the Sac & Fox Nation, Oklahoma; Sac & Fox of Missouri in Kansas and Nebraska; and the Sac & Fox Tribe of the Mississippi in Iowa. On August 29, 2013, The Osage Nation timely submitted a written request for transfer of control of the human remains and associated funerary objects removed from the Clarksville Mound Group (site 23PI6). Supporting materials submitted by The Osage Nation asserted that (1) the individuals interred at the Clarksville Mound site dated to the Late Woodland and Emergent Mississippian Period (A.D. 900-1000); (2) this period corresponds to the prehistoric occupation of Missouri by the ancestral Osage; and (3) in accordance with 43 CFR 10.2(e)(1) and 10.14(c), multiple lines of evidence support a cultural affiliation between the prehistoric inhabitants of the Clarksville Mound site and the current people of The Osage Nation. As of July 15, 2015, the SHPO had not made a decision regarding The Osage Nation's request.

In August 2015, The Osage Nation requested that the Review Committee make a finding of fact regarding the human remains and associated funerary objects removed from Clarksville Mound Group (site 23PI6) in Pike County, MO. The Designated Federal Officer for the Review Committee agreed to the request.

At its November 18, 2015 meeting, the Review Committee considered the request. The issues before the Review Committee were (1) whether the human remains and associated items from the Clarksville Mound Group (site 23PI6) are culturally affiliated with The Osage Nation; and (2) whether the appropriate disposition of human remains and associated items from the Clarksville Mound Group (site 23PI6) is to The Osage Nation or the Indian tribes comprising the Sac and Fox NAGPRA Confederacy.

Findings of Fact: All six Review Committee members currently appointed by the Secretary of the Interior participated in the fact finding. By a vote of five to zero (the chair did not vote), the Review Committee found that with regard to issue (1), the human remains and associated items from the Clarksville Mound Group (Site 23PI6) are culturally affiliated with The Osage Nation. Regarding issue (2), by a vote of five to zero (the chair did not vote), the Review Committee “strongly recommends that the [State of Missouri Department of Natural Resources, State Historic Preservation Officer], pursuant to the NAGPRA regulations, determine the most appropriate claimant in this case within the next six months, in consultation with The Osage Nation and the Sac and Fox NAGPRA Confederacy. If the [State of Missouri Department of Natural Resources, State Historic Preservation Officer], cannot make such a determination within six months, the Review Committee requests that the [State of Missouri Department of Natural Resources, State Historic Preservation Officer,] notify the Review Committee of the barrier to doing so.”

Dated: January 13, 2016.
Armand Minthorn,
Chair, Native American Graves Protection and Repatriation Review Committee.

[FR Doc. 2016-03407 Filed 2-17-16; 8:45 am]

BILLING CODE 4312-50-P